DEPARTMENT OF ENERGY

Federal Energy Regulatory Commission

[Project No. 13704-002; Project No. 13701-002; Project No. 13703-002; Project No. 13702-002]

FFP Missouri 2, LLC; Notice of Technical Meeting

a. Project Names and Numbers: From upstream to downstream order, Arkabutla Lake Hydroelectric Project No. 13704, Sardis Lake Hydroelectric Project No. 13701, Enid Lake Hydroelectric Project No. 13703, and Grenada Lake Hydroelectric Project No. 13702.

b. Date and Time of Meeting: December 2, 2014; 2:30 p.m. Eastern Time (1:30 p.m. Central Time).

c. Place: Telephone conference with the Mississippi Department of Environmental Quality, the U.S. Army Corps of Engineers, and Rye Development, LLC.

d. FERC Contact: Jeanne Edwards, jeanne.edwards@ferc.gov or (202) 502-6181.

e. Purpose of Meeting: To discuss the water quality study report results filed on November 13, 2013 for the projects listed above.

f. A summary of the meeting will be prepared and filed for the projects' records.

g. All local, state, and federal agencies, Indian tribes, and other interested parties are invited to participate by phone. Please contact Jeanne Edwards at jeanne.edwards@ferc.gov or (202) 502-6181 by close of business Tuesday, November 25, 2014, to R.S.V.P. and to receive specific instructions on how to participate.

Dated: November 20, 2014.
Kimberly D. Bose,
Secretary.

[FR Doc. 2014-28021 Filed 11-25-14; 8:45 am]

BILLING CODE 6717-01-P